DEPARTMENT OF ENERGY

Federal Energy Regulatory Commission

Notice of Filings

Thursday, May 19, 2005.

Take notice that the Commission received the following electric rate filings.

Docket Numbers: ER02-237-004; ER03-1151-004; ER95-1739-023; ER99-2984-005; ER02-2026-003; ER99-3320-003; ER03-922-004.

Applicants: J. Aron & Company.

Description: J. Aron & Company et al. submits First Revised Sheet 3 et al. to FERC Rate Schedule 1, which incorporates the change in status reporting requirement adopted in Order 652 under ER02-237 et al.

Filed Date: 5/16/2005.

Accession Number: 20050518-0154.

Comment Date: 5 p.m. Eastern Time on Monday, June 6, 2005.

Docket Numbers: ER02-600-004.

Applicants: Delta Energy Center, LLC.

Description: Delta Energy Center, LLC revises its market based rate schedule to incorporate the change in status reporting requirement pursuant to Order 652 under ER02-600.

Filed Date: 5/16/2005.

Accession Number: 20050518-0159.

Comment Date: 5 p.m. Eastern Time on Monday, June 6, 2005.

Docket Numbers: ER04-106-010; ER04-691-042 and EL04-104-040.

Applicants: Midwest Independent Transmission System Operator Inc.

Description: Midwest Independent Transmission System Operator Inc submits its compliance filing re proposed revisions to Attachment P under ER04-106 et al.

Filed Date: 5/16/2005.

Accession Number: 20050518-0152.

Comment Date: 5 p.m. Eastern Time on Monday, June 6, 2005.

Docket Numbers: ER04-366-003.

Applicants: Jersey Central Power & Light Company.

Description: FirstEnergy Service Co submits a supplement to the Market-Based Rate Power Sales Tariff of Jersey Central Power & Light Co etc. under ER04-366.

Filed Date: 5/16/2005.

Accession Number: 20050518-0155.

Comment Date: 5 p.m. Eastern Time on Monday, June 6, 2005.

Docket Numbers: ER04-372-003.

Applicants: Metropolitan Edison Company and Pennsylvania Electric Company.

Description: FirstEnergy Service Co submits a supplement to the Market-Based Rate Power Sales Tariff of Metropolitan Edison Co et al. to incorporate the requirement for reporting changes in status adopted by FERC under ER04-372.

Filed Date: 5/16/2005.

Accession Number: 20050518-0163.

Comment Date: 5 p.m. Eastern Time on Monday, June 6, 2005.

Docket Numbers: ER04-691-038; EL04-104-036.

Applicants: Midwest Independent Transmission System Operator Inc.

Description: Midwest Independent Transmission System Operator, Inc submits revisions to their Open Access Transmission and Energy Markets Tariff, FERC Electric Tariff, Third Revised Volume 1 under ER04-691 et al.

Filed Date: 5/16/2005.

Accession Number: 20050518-0001.

Comment Date: 5 p.m. Eastern Time on Monday, June 6, 2005.

Docket Numbers: ER05-541-002; ER05-542-002; ER05-543-002; ER05-544-002; ER05-545-002; ER05-546-002; ER05-547-002; ER05-548-002; ER05-549-002; ER05-550-002; ER05-551-002; ER05-552-002; ER05-553-002.

Applicants: New England Power Company.

Description: New England Power Co submits the corrected page designation of Substitute First Revised Service Agreement IA-NEP-14 concerning Deerfield 3 Development, originally filed on 5/4/05 under ER05-541 et al.

Filed Date: 5/16/2005.

Accession Number: 20050519-0113.

Comment Date: 5 p.m. Eastern Time on Monday, June 6, 2005.

Docket Numbers: ER05-764-001.

Applicants: Montana Alberta Tie Ltd.

Description: Report on Open Season of Montana Alberta Tie, Ltd under ER05-764.

Filed Date: 5/16/2005.

Accession Number: 20050518-0156.

Comment Date: 5 p.m. Eastern Time on Monday, June 6, 2005.

Docket Numbers: ER05-975-000.

Applicants: FirstEnergy Generation Corp.

Description: FirstEnergy Generation Corp submits its compliance filing to modify FERC Electric Tariff, original Volume 1 under ER05-975.

Filed Date: 5/16/2005.

Accession Number: 20050518-0158.

Comment Date: 5 p.m. Eastern Time on Monday, June 6, 2005.

Docket Numbers: ER05-976-000.

Applicants: FirstEnergy Solutions Corp.

Description: FirstEnergy Solutions Corp submits Original Sheet 1 et al. to FERC Electric Tariff, First Revised Volume 1, pursuant to Section 205 of the Federal Power Act under ER05-976.

Filed Date: 5/16/2005.

Accession Number: 20050518-0157.

Comment Date: 5 p.m. Eastern Time on Monday, June 6, 2005.

Docket Numbers: ER98-1150-004; EL05-87-000.

Applicants: Tucson Electric Power Company.

Description: Tucson Electric Power Co submits a filing in partial compliance with FERC's 4/14/05 Order and requests a 15-day extension of time to submit the balance of material required under ER98-1150 et al.

Filed Date: 5/16/2005.

Accession Number: 20050518-0160.

Comment Date: 5 p.m. Eastern Time on Monday, June 6, 2005.

Docket Numbers: ER99-3125-001.

Applicants: Minergy Neenah, LLC.

Description: Minergy Neenah, LLC submits an updated Triennial Market-Power Analysis, pursuant to FERC's July 28, 1999 Order granting exempt wholesale generator status as a condition of market-based rate authority etc. under ER99-3125.

Filed Date: 5/16/2005.

Accession Number: 20050518-0236.

Comment Date: 5 p.m. Eastern Time on Monday, June 6, 2005.

Docket Numbers: ER01-2636-003; ER00-2177-002.

Applicants: Allete, Inc.

Description: Allete, Inc. dba Minnesota Power and Rainy River Energy Corp submits First Revised Sheet 4 et al., First Revised Volume 1 containing FERC's required provisions for the market based tariffs, in compliance with the 4/14/05 Order under ER01-2636 et al.

Filed Date: 5/13/2005.

Accession Number: 20050518-0004.

Comment Date: 5 p.m. Eastern Time on Friday, June 3, 2005.

Docket Numbers: ER05-970-000.

Applicants: MGE Power West Campus, LLC.

Description: MGE Power West Campus, LLC submits a notice of cancellation of a power purchase agreement, designated as West Campus FERC Electric Rate Schedule 1 under ER05-970.

Filed Date: 5/13/2005.

Accession Number: 20050517-0142.

Comment Date: 5 p.m. Eastern Time on Friday, June 3, 2005.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding (ER05- -000 docket numbers), interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling line to log on and submit the intervention or protests.

Persons unable to file electronically should submit an original and 14 copies of the intervention or protest to the Federal Energy Regulatory Commission, 888 First Street, NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed docket(s). For Assistance with any FERC Online service, please e-mail FERCOnlineSupport@ferc.gov or call (866) 208-3676 (toll free). For TTY, call (202) 502-8659.

Linda Mitry,
Deputy Secretary.

[FR Doc. E5-2606 Filed 5-24-05; 8:45 am]

BILLING CODE 6717-01-P